DEPARTMENT OF THE INTERIOR

Bureau of Land Management

[LLMTC02200-L13200000-PP0000-LXSICOMP0000; MTM-99236]

Notice of Public Meeting; Proposed Alluvial Valley Floor Coal Exchange Public Interest Factors; Montana

AGENCY: Bureau of Land Management, Interior.

ACTION: Notice.

SUMMARY: The Bureau of Land Management (BLM) hereby notifies the public that it will hold a public meeting to consider a proposal to exchange Federal coal deposits for Alluvial Valley Floor (AVF) fee coal pursuant to the Federal Land Policy and Management Act (FLPMA) of 1976, as amended, and the Surface Mining Control and Reclamation Act (SMCRA) of 1977. This exchange (serial number MTM-99236) has been proposed by Jay Nance, Brett A. Boedecker, as personal representative for Susanne N. Boedecker, Joseph P. Hayes, Patricia Hayes Rodolph, and the Brown Cattle Company Shareholders Coal Trust, collectively referred to as Nance-Brown.

DATES: A public meeting will be held from 5:30 p.m. to 7 p.m. on October 19, 2010.

ADDRESSES: The public meeting will be held at The Bicentennial Library of Colstrip at 417 Willow Avenue, Colstrip, Montana. The Alluvial Valley Floor Environmental Assessment can be viewed on the BLM's Miles City Field Office Web page located at http://www.blm.gov/mt/st/en/fo/miles_city_field_office.html.

FOR FURTHER INFORMATION CONTACT: Dan Fox, AVF Project Manager, BLM Miles City Field Office, 111 Garryowen Road, Miles City, Montana 59301, telephone 406-233-3664.

SUPPLEMENTARY INFORMATION:

As required under the BLM's regulations at 43 CFR 2203.3, a public meeting must be held after completion of an environmental analysis and prior to the issuance of a notice of decision. The purpose of this public meeting will be to receive oral and written testimony and comments on the public interest factors (see determination of public interest at 43 CFR 2200.0-6 (b)) associated with the Nance-Brown exchange.

The exchange proponents, Nance-Brown, seek an exchange as required by section 510(b)(5) of SMCRA, which provides that owners of coal determined to be unminable due to prohibitions against mining coal within an alluvial valley floor, west of the 100th meridian, west longitude, are entitled to an exchange of coal with the Federal Government (30 U.S.C. 1260(b)(5)). Pursuant to section 510 of SMCRA and the revised stipulation entered on January 29, 2010, in Nance v. Salazar, No. CV-06-125-BLG-RFC (D. Montana), the BLM is considering an exchange of Federal coal in Montana, within the Ashenhurst Tract, to equal the value, as determined by appraisal, of approximately 3,379.55 acres of non-Federal coal in the alluvial valley floor of the Tongue River, in Montana, owned by Nance-Brown.

The Federal coal in the following-described land in Rosebud County, Montana, is being considered for exchange by the United States:

Ashenhurst Tract

Principal Meridian, Montana

T. 1 N., R. 40 E.,

Sec. 22, all;

Sec. 26, all;

Sec. 28, all; and

Sec. 34, lots 1-4, N½, N½S½.

T. 1 S., R. 41 E.,

Sec. 6, lots 1-7, S½NE¼, SE¼NW¼, E½SW¼, SE¼.

Containing 3,173.88 acres, more or less.

In exchange, the United States would acquire the coal within the following-described non-Federal land in Rosebud County, Montana, from Nance Brown:

Principal Meridian, Montana

T. 5 S., R. 42 E.,

Sec. 25, lot 5, E½E½; and

Sec. 35, E½, E½SW¼.

T. 6 S., R. 42 E.,

Sec. 1, SE¼NE¼, E½SE¼, SW¼SE¼;

Sec. 12, E½E½, SW¼NE¼, SE¼SW¼, W½SE¼; and

Sec. 13, NE¼NE¼.

T. 4 S., R. 43 E.,

Sec. 23, lot 2, SE¼SE¼;

Sec. 24, lots 2-4, S½SW¼, NE¼SE¼, SW¼SE¼;

Sec. 25, W½NW¼;

Sec. 26, NE¼, E½W½, SW¼NW¼, N½SE¼, SW¼SE¼;

Sec. 27, lot 1;

Sec. 33, lot 1;

Sec. 34, S½NE¼, SW¼, W½SE¼; and

Sec. 35, W½NW¼.

T. 5 S., R. 43 E.,

Sec. 3, lots 3 and 4; and

Sec. 9, NW¼NE¼, NE¼SW¼.

T. 6 S., R. 43 E.,

Sec. 6, lots 2-7. SE¼NW¼, E½SW¼;

Sec. 7, lots 1-4, E½W½; and

Sec. 18, lots 1 and 2, NW¼NE¼, NE¼NW¼.

Containing 3,379.55 acres, more or less.

Further information regarding this exchange can be found in the Environmental Analysis (EA). A hardcopy of the EA can be viewed at the BLM Miles City Field Office, 111 Garryowen Rd., Miles City, Montana, on Monday through Friday from 8 a.m. to 5 p.m. The EA may also be viewed, as noted above under ADDRESSES, on the BLM's Miles City Field Office Web page. The EA will be available for public viewing until November 22, 2010.

The BLM will use the following procedures to facilitate the public meeting: All persons who wish to present an oral statement must register at the door to present comments between 5:30 p.m. to 7 p.m. on the day of the meeting. Any speaker prevented by time constraints from speaking will be encouraged to submit written remarks which will be made part of the record. The meeting will be recorded and a transcript prepared. The transcript and all written submissions will be made a part of the public record of the proposed exchange. Persons not able to attend the meeting are invited to provide written comments. All written comments must be received by the BLM's Miles City Field Office at the address indicated below by November 22, 2010. Before including your address, phone number, e-mail address, or other personal identifying information in your comments, be advised that your entire comment—including your personal identifying information-may be made publicly available at any time. While you can ask us in your comment to withhold your personal identifying information from public review, we cannot guarantee that we will be able to do so. Comments may be submitted after the publication of the Federal Register Notice. You can submit your written comments to: Bureau of Land Management, Attention: Dan Fox, AVF Project Manager, 111 Garryowen Rd., Miles City, MT 59301.

The meeting transcript and all written submissions will be forwarded to the U.S. Attorney General, who will have 90 days to advise, in writing, on the anti-trust consequences of the proposed exchange. The BLM will make any advice received from the Attorney General a part of the public record on the proposed exchange. The advice from the Attorney General will be considered in making the final decision on the proposed exchange and whether it is in the public interest. The BLM will discuss, in the decision record, the consideration given any advice received from the Attorney General in reaching the final decision on the proposed exchange.

Michael D. Nedd,
Acting State Director.

[FR Doc. 2010-25060 Filed 10-6-10; 8:45 am]

BILLING CODE 4310-DN-P